DEPARTMENT OF DEFENSE

Office of the Secretary

[Docket No. DoD-2010-OS-0015]

Submission for OMB Review; Comment Request

ACTION: Notice.

The Department of Defense has submitted to OMB for clearance, the following proposal for collection of information under the provisions of the Paperwork Reduction Act (44 U.S.C. Chapter 35).

DATES: Consideration will be given to all comments received by September 24, 2010.

Title and OMB Number: Survey of Foreign Acquired Domestic Facilities with Defense Capabilities; OMB Control Number 0704-TBD.

Type of Request: New.

Number of Respondents: 86.

Responses per Respondent: 1.

Annual Responses: 86.

Average Burden per Response: 5 hours.

Annual Burden Hours: 430 hours

Needs and Uses: As part of its industrial base oversight responsibilities, DoD is planning to assess in a preliminary way the impact on the U.S. industrial base of the increasing foreign ownership of U.S. defense-relevant firms. Specifically, DoD will evaluate the extent to which foreign acquired firms (1) expanded domestically vs. off-shored production and R&D capabilities; and (2) remained reliable suppliers to defense customers. This assessment is limited to a sample of firms that were DoD suppliers when they were foreign-acquired in 2003 or 2004 and that the Office of the Under Secretary of Defense for Acquisition, Technology & Logistics determined at that time possessed defense critical technology under development.

Affected Public: Business or other-for-profit.

Frequency: One-time.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: April 30, 2010.
Patricia L. Toppings,
OSD Federal Register, Liaison Officer, Department of Defense.

[FR Doc. 2010-21110 Filed 8-24-10; 8:45 am]

BILLING CODE 5001-06-P